DEPARTMENT OF THE INTERIOR

Fish and Wildlife Service

Final Environmental Impact Statement for the Proposed Issuance of an Incidental Take Permit for the Metro Air Park Habitat Conservation Plan, Sacramento County, CA

AGENCY: Fish and Wildlife Service, Interior.

ACTION: Notice of availability.

SUMMARY: This notice advises the public of the availability of the Final Environmental Impact Statement on the application to incidentally take 2 federally listed species and 12 currently unlisted species should any of them become listed under the Endangered Species Act of 1973, as amended (Act), during the life of the permit. The Metro Air Park Property Owners Association (Association) has applied to the Fish and Wildlife Service (Service) for a 50-year incidental take permit pursuant to section 10(a)(1)(B) of the Act. The Association seeks this permit because urban development and rice farming associated with the Metro Air Park 1,892-acre Special Planning Area may result in take of threatened and endangered species. The Final Environmental Impact Statement on our proposed action of issuing an incidental take permit to the Association analyzes four alternatives, addresses public comments, and discloses effects of the proposed permit on the environment. This notice is provided pursuant to section 10 of the Act and National Environmental Policy Act Regulation (40 CFR 1506.6).

DATES: A Record of Decision and permit decision will occur no sooner than 30 days from the date of publication of this notice.

ADDRESSES: Copies of the Metro Air Park Habitat Conservation Plan (Plan), Implementing Agreement, and Final Environmental Impact Statement are available for public inspection, during regular business hours, at the Sacramento Fish and Wildlife Office, 2800 Cottage Way, Sacramento, CA; State Library, 914 Capitol Mall, Sacramento, CA; the State Library, 828 I Street, Sacramento, CA; and the State Library, 1620 W. El Camino Avenue, Sacramento, CA.

FOR FURTHER INFORMATION CONTACT: Ms. Vicki Campbell, Chief, Conservation Planning Division, at the Sacramento Fish and Wildlife Office (see address above); telephone: (916) 414-6600.

SUPPLEMENTARY INFORMATION: Section 9 of the Act and Federal regulation prohibit the “take” of animal species listed as endangered or threatened. Take is defined under the Act as harass, harm, pursue, hunt, shoot, wound, kill, trap, capture or collect listed animal species, or attempt to engage in such conduct (16 U.S.C. 1538). However, under limited circumstances, the Service may issue permits to authorize “incidental take” of listed animal species. “Incidental take” is defined by the Act as take that is incidental to, and not the purpose of, carrying out of an otherwise lawful activity. Regulations governing permits for threatened species and endangered species, respectively, are at 50 CFR 17.32 and 50 CFR 17.22.

The Association seeks a permit for take of the following federally listed species: the threatened giant garter snake (Thamnophis gigas) and the threatened valley elderberry longhorn beetle (Desmocerus californicus dimorphus). This take would be incidental to urban development of the Metro Air Park industrial park project and from rice farming activities within the 1,892-acre Special Planning Area and on 119 acres of lands outside the Special Planning Area in Sacramento County, California. The proposed permit would also authorize future incidental take of the currently unlisted Swainson's hawk (Buteo swainsoni), Aleutian Canada goose (Branta canadensis leucopareia), Peregrine falcon, (Falco peregrinus anatum), greater sandhill crane (Grus canadensis tubida), bank swallow (Riparia riparia), tricolored blackbird (Agelaius tricolor), northwestern pond turtle (Clemmys marmorata marmorata), white-faced ibis (Plegadis chihi), loggerhead shrike (Lanius ludovicianus), burrowing owl (Athene cunicularia), delta tule pea (Lathyrus jepsonii ssp. jepsonii), and Sanford's arrowhead (Sagittaria sanfordii) should any of these species become listed under the Act during the life of the permit. Collectively, the 14 listed and unlisted species are referred to as the “covered species” for the Association's Plan.

The Metro Air Park Special Planning Area comprises 1,892 acres within the Natomas Basin in Sacramento County, California. Agriculture is the dominant land use in the Natomas Basin and on the Metro Air Park site. The predominant crops are rice, corn, sugar beets, grain, tomatoes, and pasture. Natural and uncultivated vegetation types are interspersed throughout the agricultural areas of the Natomas Basin. Natural areas are found primarily along irrigation canals, drainage ditches, pastures, and uncultivated fields. The borders of drainage canals are often associated with narrow strips of emergent vegetation and/or wooded riparian areas.

Portions of the Natomas Basin that are within the jurisdiction of the City of Sacramento are included in the Natomas Basin Habitat Conservation Plan which was completed by the City of Sacramento in November, 1997. The Metro Air Park Project is described in the Natomas Basin Habitat Conservation Plan, but because the Metro Air Park Project is outside of the City limit lines, the project cannot be covered by the City's incidental take permit. Therefore, the Association is seeking a separate incidental take permit for the Metro Air Park project. Take of listed species could occur as a result of urban development of the Metro Air Park industrial park project and from rice farming activities.

Under the Plan, the Association proposes to minimize and mitigate the effects of urban development by participating in the basin-wide conservation program set up for the entire Natomas Basin which is described in the Natomas Basin Habitat Conservation Plan. The focus of this basin-wide conservation program is the preservation, enhancement, and restoration of ecological communities which support species associated with the wetland and upland habitats. Through the payment of development fees, one-half acre of mitigation land would be established for every acre of land developed within the Plan area. The mitigation land would be acquired and managed by the Natomas Basin Conservancy, a non-profit conservation organization established to implement the Natomas Basin Habitat Conservation Plan. Mitigation fee amounts and the mitigation strategy for the Plan would be subject to the same adjustments required under the Natomas Basin Habitat Conservation Plan. To mitigate for the loss of Swainson's hawk nest trees on-site, the Association will secure 200 contiguous acres, in perpetuity, and transfer the lands to the Natomas Basin Conservancy to manage them for the benefit of Swainson's hawk; or the Association will provide funds to the Natomas Basin Conservancy to secure and manage 200 contiguous acres, in perpetuity for the benefit of Swainson's hawk. The Plan also includes take avoidance and minimization measures that include the requirement for landowners to conduct pre-construction surveys for covered species and to carry out minimization measures prior to site development.

The Plan will be implemented by the Association with assistance from the County of Sacramento and environmental consultants. The Natomas Basin Conservancy will serve as the Plan Operator, receive mitigation fees from the County, and be responsible for using the fees to acquire and manage habitat lands in accordance with the Plan.

Funding for the Plan will be financed through a combination of development fees charged at the time grading permits are issued, Mello-Roos Community Facilities District bond proceeds, and Property Owners Assessments.

On December 5, 2000, a notice was published in the Federal Register (65 FR 75946) announcing that the Service had received an application for an incidental take permit from the Association for implementation of the Plan and the availability of a Draft Environmental Impact Statement for the application. The Draft Environmental Impact Statement analyzed the potential environmental impacts that may result from the Federal action of authorizing incidental take anticipated to occur with implementation of the Plan, and identified various alternatives. Nine comment letters were received on the Draft Environmental Impact Statement. A response to each comment received in these letters has been included in the Final Environmental Impact Statement.

The Final Environmental Impact Statement considers four alternatives, including the Proposed Action and the No-Action/No Take Alternative. Under the No-Action/No Take Alternative, no section 10(a)(1)(B) permit would be issued for take of listed species during urban development and other activities in the Plan area. Landowners within the Plan area would continue to apply for individual incidental take permits on a case-by-case basis, resulting in piecemeal planning that would establish smaller and more isolated patches of mitigation land. This could result in cumulatively significant adverse impacts to those species which would benefit from larger tracts of interconnected habitats.

The Increased Mitigation Ratio Alternative examines the environmental effects of applying a higher mitigation ratio than is required under the Natomas Basin Habitat Conservation Plan and the proposed Plan for addressing impacts to the giant garter snake and the Swainson's hawk. This alternative would require a site-specific analysis of habitat values in order to determine specific mitigation obligations.

The Reduced Development Alternative would result in reduced development of the Metro Air Park site. The 18-hole golf course situated on approximately 279 acres would be reduced to a 140-acre 9-hole golf course. This would reallocate 140 acres on-site for the creation of habitat as a mitigation area for covered species. Because an on-site mitigation area would eventually be surrounded by urban development it should be anticipated that adverse urban “edge effects” will occur.

The analysis provided in the Final Environmental Impact Statement is intended to accomplish the following: inform the public of the proposed action and alternatives; address public comments received on the Draft Environmental Impact Statement; disclose the direct, indirect, and cumulative environmental effects of the proposed action and each of the alternatives; and indicate any irreversible commitment of resources that would result from implementation of the proposed action.

Dated: August 3, 2001.
John Engbring,
Acting Deputy Manager, California/Nevada Operations Office,Sacramento, California.

[FR Doc. 01-20068 Filed 8-16-01; 8:45 am]

BILLING CODE 4310-55-P